SECURITIES AND EXCHANGE COMMISSION

[Release No. 34-71818; File No. SR-NYSEARCA-2014-27]

Self-Regulatory Organizations; NYSE Arca, Inc.; Notice of Filing and Immediate Effectiveness of Proposed Rule Change Amending Rule 6.62 To Specifically Address the Number and Size of Contra-Parties to a Qualified Contingent Cross Order

March 27, 2014.

Correction

In notice document 2014-07353 appearing on pages 18599-18601 in the issue of April 2, 2014, make the following correction:

On page 18599, in the second column, the date in the heading which was inadvertently omitted is corrected to read as set forth above.

[FR Doc. C1-2014-07353 Filed 4-7-14; 8:45 am]

BILLING CODE 1505-01-D